ENVIRONMENTAL PROTECTION AGENCY

40 CFR Part 63

[EPA-HQ-OAR-2008-0008; FRL-8733-2]

RIN 2060-AO91

National Emission Standards for Hazardous Air Pollutant Emissions: Group I Polymers and Resins (Epichlorohydrin Elastomers Production, Hypalon™ Production, Nitrile Butadiene Rubber Production, Polybutadiene Rubber Production, and Styrene Butadiene Rubber and Latex Production); Marine Vessel Loading Operations; Mineral Wool Production; Pharmaceuticals Production; and Printing and Publishing Industry; Correction

AGENCY: Environmental Protection Agency (EPA).

ACTION: Proposed rule; correction.

SUMMARY: This document corrects the preamble to a proposed rule published in the Federal Register of October 10, 2008, regarding the National Emission Standards for Hazardous Air Pollutant Emissions: Group I Polymers and Resins (Epichlorohydrin Elastomers Production, Hypalon™ Production, Nitrile Butadiene Rubber Production, Polybutadiene Rubber Production, and Styrene Butadiene Rubber and Latex Production); Marine Vessel Loading Operations; Mineral Wool Production; Pharmaceuticals Production; and Printing and Publishing Industry. This correction clarifies the date of the public hearing (if a public hearing is requested).

DATES: If a public hearing is held, it will be held on October 27, 2008.

ADDRESSES: If a public hearing is held, it will begin at 10 a.m. and will be held at EPA's campus in Research Triangle Park, North Carolina, or at an alternate facility nearby.

FOR FURTHER INFORMATION CONTACT: For questions about this proposed action, contact Ms. Mary Tom Kissell, Office of Air Quality Planning and Standards, Sector Policies and Programs Division, Coatings and Chemicals Group (E143-01), U.S. Environmental Protection Agency, Research Triangle Park, NC 27711; telephone number: (919) 541-4516; fax number: (919) 685-3219; and e-mail address: kissell.mary@epa.gov.

Correction

If a public hearing is held, it will be held on October 27, 2008, beginning at 10 a.m. If a public hearing is held, it will be held at EPA's campus in Research Triangle Park, North Carolina, or at an alternate facility nearby.

Dated: October 16, 2008.
Robert J. Meyers,
Principal Deputy Assistant Administrator.

[FR Doc. E8-25514 Filed 10-23-08; 8:45 am]

BILLING CODE 6560-50-P